SECURITIES AND EXCHANGE COMMISSION

[Release No. 34-90512; File No. SR-BOX-2020-14]

Self-Regulatory Organizations; BOX Exchange LLC; Notice of Designation of Longer Period for Commission Action on Proposed Rule Change, as Modified by Amendment No. 1, To Adopt Rules Governing the Trading of Equity Securities on the Exchange Through a Facility of the Exchange Known as the Boston Security Token Exchange LLC

November 24, 2020.

On May 21, 2020, BOX Exchange LLC (“Exchange” or “BOX”) filed with the Securities and Exchange Commission (“Commission”), pursuant to Section 19(b)(1) of the Securities Exchange Act of 1934 (“Exchange Act”) ¹ and Rule 19b-4 thereunder,² a proposed rule change to adopt rules governing the listing and trading of equity securities that would be NMS stocks on the Exchange through a facility of the Exchange known as the Boston Security Token Exchange LLC (“BSTX”). The proposed rule change was published for comment in the Federal Register on June 1, 2020.³ On July 16, 2020, pursuant to Section 19(b)(2) of the Exchange Act,⁴ the Commission designated a longer period within which to either approve the proposed rule change, disapprove the proposed rule change, or institute proceedings to determine whether to disapprove the proposed rule change.⁵

¹ 15 U.S.C. 78s(b)(1).

² 17 CFR 240.19b-4.

³ See Securities Exchange Act Release No. 88946 (May 26, 2020), 85 FR 33454 (June 1, 2020) (SR-BOX-2020-14) (“Original Notice”). Comments received on the proposed rule change are available at: https://www.sec.gov/comments/sr-box-2020-14/srbox202014.htm. In Amendment No. 1 to the proposed rule change, infra note 6, the Exchange stated that the proposed rule change was previously filed with the Commission as the proposed rule change SR-BOX-2019-19, which the Exchange amended twice, and that the current proposed rule change, SR-BOX-2020-14, is “substantively identical” to the previously-filed proposed rule change, SR-BOX-2019-19, as modified by Amendment No. 2. SR-BOX-2019-19, as modified by Amendment No. 2, was published for comment in the Federal Register on March 6, 2020. See Securities Exchange Act Release No. 88300 (February 28, 2020), 85 FR 13242 (March 6, 2020) (Notice of Filing of Amendment No. 2 to Proposed Rule Change). The Exchange withdrew proposed rule change SR-BOX-2019-19 on May 12, 2020. See Securities Exchange Act Release No. 89018 (June 4, 2020), 85 FR 35458 (June 10, 2020) (Notice of Withdrawal of a Proposed Rule Change).

As applicable, the Commission will consider comments submitted on SR-BOX-2019-19 and SR-BOX-2020-14 in its review of SR-BOX-2020-14. Comments on SR-BOX-2019-19 can be found at: https://www.sec.gov/comments/sr-box-2019-19/srbox201919.htm.

⁴ 15 U.S.C. 78s(b)(2).

⁵ See Securities Exchange Act Release No. 89328 (July 16, 2020), 85 FR 44338 (July 22, 2020).

On July 31, 2020, the Exchange filed Amendment No. 1 to the proposed rule change, which replaced and superseded the proposed rule change as originally filed.⁶ On August 12, 2020, the Commission published the proposed rule change, as modified by Amendment No. 1, for notice and comment and instituted proceedings to determine whether to approve or disapprove the proposed rule change, as modified by Amendment No. 1.⁷

⁶ Amendment No. 1 is available on the Commission's website at: https://www.sec.gov/comments/sr-box-2020-14/srbox202014-7570237-222233.pdf.

⁷ See Securities Exchange Act Release No. 89536 (August 12, 2020), 85 FR 51250 (August 19, 2020).

Section 19(b)(2) of the Act ⁸ provides that, after initiating disapproval proceedings, the Commission shall issue an order approving or disapproving the proposed rule change not later than 180 days after the date of publication of notice of filing of the proposed rule change. The Commission may extend the period for issuing an order approving or disapproving the proposed rule change, however, by not more than 60 days if the Commission determines that a longer period is appropriate and publishes the reasons for such determination. The proposed rule change was published for notice and comment in the Federal Register on June 1, 2020.⁹ November 28, 2020 is 180 days from that date, and January 27, 2021 is 240 days from that date. The Commission finds it appropriate to designate a longer period within which to issue an order approving or disapproving the proposed rule change so that it has sufficient time to consider the proposed rule change. Accordingly, the Commission, pursuant to Section 19(b)(2) of the Act,¹⁰ designated January 27, 2021 as the date by which the Commission shall either approve or disapprove the proposed rule change, as modified by Amendment No. 1 (File No. SR-BOX-2020-14).

⁸ 15 U.S.C. 78s(b)(2).

⁹ See Original Notice, supra note 3.

¹⁰ Id.

For the Commission, by the Division of Trading and Markets, pursuant to delegated authority.¹¹
¹¹ 17 CFR 200.30-3(a)(57).
J. Matthew DeLesDernier,
Assistant Secretary.

[FR Doc. 2020-26411 Filed 11-30-20; 8:45 am]

BILLING CODE 8011-01-P